DEPARTMENT OF HOMELAND SECURITY

Coast Guard

[Docket No. USCG-2009-1079]

Cargo Securing Methods for Packages in Transport Vehicles or Freight Containers

AGENCY: Coast Guard, DHS.

ACTION: Notice of request for comments.

SUMMARY: The Coast Guard seeks comments from the public on methods for securing cargo in transport vehicles and freight containers in order to determine if a standardized approval or certification process or improved performance criteria for flexible strapping securing systems is needed. Under current U.S. regulations and international codes, there is no certification or qualification standard for blocking, bracing, or for the use of strapping systems for securing cargo. Cargo must be secured to prevent shifting in any direction during transport. Packages of hazardous materials must be braced and dunnaged within a container so that they are not likely to be pierced or crushed and the materials must be in proper condition for transportation. Currently, the specific method for securing cargo is left to the discretion of the individual or company packing the container. The Coast Guard is considering whether there is a need for a standardized certification or approval process for cargo securing systems.

DATES: Comments and related material must either be submitted to our online docket via http://www.regulations.gov on or before March 9, 2010 or reach the Docket Management Facility by that date.

ADDRESSES: You may submit comments identified by docket number USCG-2009-1079 using any one of the following methods:

• Federal eRulemaking Portal: http://www.regulations.gov.

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Morgan Armstrong, telephone 202-372-1419, e-mail: Morgan.D.Armstrong@uscg.mil. If you have questions on viewing or submitting material to the docket, call Renee V. Wright, Program Manager, Docket Operations, telephone 202-366-9826.

SUPPLEMENTARY INFORMATION:

Public Participation and Request for Comments

We encourage you to submit comments and related material. All comments received will be posted, without change, to http://www.regulations.gov and will include any personal information you have provided.

Submitting comments: If you submit a comment, please include the docket number for this notice (USCG-2009-1079) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2009-1079” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2009-1079” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

It has recently been brought to the Coast Guard's attention that significant damage and shifting of packages has purportedly occurred in cargo transport units in which the cargo was secured with flexible strapping. There is a concern that without an approval process, certain flexible strapping systems could be used even though they may not adequately secure cargo when properly installed.

Requirements for the securing of cargo can be found in 49 CFR 176.76 and in Chapter 7.5 of the International Maritime Dangerous Goods (IMDG) Code. Additional recommendations can be found in the IMDG Code Supplement. These are the Guidelines for Packing of Cargo Transport Units (CTUs), which were developed in 1996 by the United Nations Economic Commission for Europe (UN ECE) Working Party on Combined Transport, the International Labor Organization (ILO), and the International Maritime Organization (IMO). These Guidelines are based on the existing ILO/IMO Guidelines for Packing Cargo in Freight Containers or Vehicles and are applicable to transport operations by all surface and water modes of transportation and the whole international transportation chain.

As required in 49 CFR 176.76, cargo, including hazardous materials, transported in vehicles and freight containers must be secured during transport to prevent shifting of the cargo and damage to the container. This requirement is true for all modes of surface transportation due to the fact that containers are transported by vessel, rail, and highway. Accordingly, the cargo must be adequately secured to withstand the unique forces exerted on the packages during each of these modes of transport. Although there are recommended methods, the ultimate responsibility for properly securing cargo inside a container (by blocking, bracing, and strapping) resides with the packer of the container.

U.S. regulations make reference to dunnage as a method for securing cargo and defines it in 49 CFR 176.2 as “lumber of not less than 25 mm (0.98 inch) commercial thickness or equivalent material laid over or against structures such as tank tops, decks, bulkheads, frames, plating, or ladders, or used for filling voids or fitting around cargo, to prevent damage during transportation.” However, there is no reference made to flexible strapping systems. The Department of Transportation (DOT) has issued exemptions to 49 CFR 176.76(a)(4), allowing the use of fabric restraint dunnage systems to secure certain hazardous materials, when installed as specified by the manufacturer's instructions.

There are a variety of options for developing a standard. One option is to request that the UN ECE, ILO, and IMO consider incorporating flexible strapping systems into their Guidelines. Another option is to have the International Standards Organization (ISO) develop testing and performance requirements. The U.S. could also create domestic regulations for incorporation into 49 CFR part 176. The final option is to continue operations as they currently exist, allowing the packer to determine the best method of securing cargo without a standardized approval or certification process.

The Coast Guard invites comments on the following topics:

• The need for a new approval process or certification standard for cargo securing systems.

• Information on currently used standards for the approval and use of cargo securing systems.

• Methods for ensuring or verifying that securing systems adequately secure cargo without damaging the container or cargo.

• Existing test methods for securing systems.

• Materials used for securing cargo within the container (e.g. wood, plastic, bags, web, wire, chain, etc.).

• Allowances for movement of cargo within the container when securing systems are used.

• Information on cargo securing systems that are currently being used to secure cargo in containers, both domestically and internationally.

Written comments and responses to the above topics will be added to the docket number for this notice (USCG-2009-1079). The Coast Guard intends to review and analyze all comments received in order to develop a way forward for securing cargo in containers.

This notice is issued under authority of 5 U.S.C. 552.

Dated: December 29, 2009.
J.G. Lantz,
Director of Commercial Regulations and Standards.

[FR Doc. 2010-106 Filed 1-7-10; 8:45 am]

BILLING CODE 9110-04-P